DEPARTMENT OF COMMERCE

Bureau of Industry and Security

Action Affecting Export Privileges; Yaudat Mustafa Talyi, and International Business Services, Ltd. and Top Oil Tools, Ltd.; Order Temporarily Denying Export Privileges

Through the Office of Export Enforcement (“OEE,”), the Bureau of Industry and Security (“BIS”), U.S. Department of Commerce, has requested that I issue an order pursuant to § 766.24 of the Export Administration Regulations (currently codified at 15 CFR 730-774 (2002)) (“EAR”),¹ temporarily denying all U.S. export privileges of Yuadat Mustafa Talyi, a.k.a. Joseph Talyi, 888 Cross Gates Boulevard, Slidell, Louisiana 70458 (“Talyi”), and International Business Services, Ltd., 700 Gause Boulevard, Suite 304, Slidell, Louisiana 70458, and, 41 Chamale Cove East, Slidell, Louisiana 70460 (“IBS”). BIS has also requested that, pursuant to §§ 766.24(c) and 766.23 of the EAR, the order apply to the following person who is related to IBS and Talyi: Top Oil Tools, Ltd., 41 Chamale Cove East, Slidell, Louisiana 70460.

¹ From August 21, 1994 through November 12, 2000, the Act was in lapse. During that period, the President, through Executive Order 12924, which had been extended by successive Presidential Notices, the last of which was August 3, 2000 (3 CFR, 2000 Comp. 397 (2001)), continue the EAR in effect under the International Emergency Economic Powers Act (50 U.S.C. 1701-1706 (1994 & Supp. V 1999)) (“IEEPA”). On November 13, 2000, the Act was reauthorized and it remained in effect through August 20, 2001. Since August 21, 2001, the Act has been in lapse and the President, through Executive Order 13222 of August 17, 2001 (3 CFR, 2001 Comp. 783 (2002)), as extended by the Notice of August 14, 2002 (67 FR 53721 (August 16, 2002)), has continued the EAR in effect under IEEPA.

In its request, BIS states that, based upon an investigation by OEE, it believes the Talyi, acting through his company IBS, has repeatedly attempted to export U.S.-origin items to Libya and Sudan over the past nine years by misrepresenting, deceiving, and lying to suppliers of the U.S.-origin items regarding the ultimate destination and end-user of the items, and despite repeated advice from several U.S. suppliers that his proposed activity would be a violation of U.S. export control laws. BIS further states that the evidence establishes that on at least three occasions, Talyi exported or participated in the export of U.S.-origin items, through his company IBS, to Libya and Sudan without obtaining the necessary authorizations from BIS or the Treasury Department's Office of Foreign Assets Control (“OFAC”).

Thus, OEE's investigation demonstrates that Talyi, through IBS, has repeatedly attempted to export items to Libya and Sudan by misrepresenting, deceiving, or lying to U.S. equipment supplies regarding the ultimate destination of end-user since as far back as 1993, in clear violation of U.S. export control laws, and, that Talyi has exported or participated in the export of U.S.-origin items without obtaining necessary authorizations from BIS or the Treasury Department's OFAC.

OEE's investigation has disclosed the Top Oil Tools, Ltd., 41 Chamale Cove East, Slidell, Louisiana 70460, is related by its ownership, control, affiliation, and connection with Talyi and IBS such that it should be considered a related person under the terms of this order. Top Oil Tools, Ltd. is a business owned and operated by Talyi, it is located at the same address, and it has participated in some of the transactions referenced herein. Consequently, it is necessary to name Top Oil Tools, Ltd. as a person related to Talyi and IBS in order to prevent evasion of the terms and conditions of this order.

In light of the evidence cited above, OEE's investigation demonstrates that Talyi has committed or attempted to commit repeated violations of U.S. export control laws, including the EAR, through his company IBS, that such violations have been deliberate and covert, and that, given the nature of the items shipped, future such violations could go undetected. In addition, a temporary denial order is needed to give notice to companies in the United States and abroad that they should cease dealing with Talyi or IBS in export transactions involving U.S.-origin items. Such a temporary denial order is clearly consistent with the public interest to preclude future violations of the EAR.

Accordingly, I find that a TDO is necessary, in the public interest, to prevent an imminent violation of the EAR. This order is issued on an ex parte basis without a hearing based upon BIS's showing that expedited action is required.

It is therefore ordered: First, that Yaudat Mustafa Talyi, a.k.a. Joseph Talyi, 888 Cross Gates Boulevard, Slidell, Louisiana 70458 (“Talyi”), and International Business Services, Ltd., 700 Gause Boulevard, Suite 304, Slidell, Louisiana 70458, and 41 Chamale Cove East, Slidell, Louisiana 70460 (“IBS”) (hereinafter collectively referred to as the “denied persons”); and the following person subject to the Order by its relationship to the denied person, Top Oil Tools, Ltd., 41 Chamale Cove East, Slidell, Louisiana 70460 (the “related person”) (together, the denied persons and the related person are “persons subject to this Order”) may not, directly or indirectly, participate in any way in any transaction involving any commodity, software or technology (hereinafter collectively referred to as “item”) exported or to be exported from the United States that is subject to the Export Administration Regulations (“EAR”), or in any other activity subject to the EAR, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the EAR, or in any other activity subject to the EAR.

Second, that no person may ,directly or indirectly, do any of the following:

A. Export or reexport to or on behalf of a person subject to this Order any item subject to the EAR;

B. Take any action that facilitates the acquisition or attempted acquisition by a person subject to this order of the ownership, possession, or control of any item subject to the EAR that has been or will be exported from the United States, including financing or other support activities related to a transaction whereby a person subject to this order acquires or attempts to acquire such ownership, possession or control;

C. Take any action to acquire from or to facilitate the acquisition or attempted acquisition from a person subject to this order of any item subject to the EAR that has been exported from the United States;

D. Obtain from a person subject to this order in the United States any item subject to the EAR with knowledge or reason to know that the item will be, or is intended to be, exported from the United States; or

E. Engage in any transaction to service any item subject to the EAR that has been or will be exported from the United States and which is owned, possessed or controlled by a person subject to this order, or service any item, of whatever origin, that is owned, possessed or controlled by a person subject to this order if such service involves the use of any item subject to the EAR that has been or will be exported from the United States. For purposes of this paragraph, servicing means installation, maintenance, repair, modification or testing.

Third, that, in addition to the related person named above, after notice and opportunity for comments as provided in § 766.23 of the EAR, any other person, firm, corporation, or business organization related to the denied person by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of § 766.24(e) of the EAR, Talyi or IBS may, at any time, appeal this Order by filing a full written statement in support of the appeal with the Office of the Administrative Law Judge, U.S. Coast Guard ALJ Docketing Center, 40 South Gay Street, Baltimore, Maryland 21202-4022. A related person may appeal to the Administrative Law Judge at the aforesaid address in accordance with the provisions of § 766.23(c) of the EAR.

This Order is effective immediately and shall remain in effect for 180 days.

In accordance with the provisions of § 766.24(d) of the EAR, BIS may seek renewal of this Order by filing a written request not later than 30 days before the expiration date. A respondent may oppose a request to renew this order by filing a written submission with the Assistant Secretary for Export Enforcement, which must be received not later than seven days before the expiration date of the Order.

A copy of this Order shall be served on Talyi and IBS and the related person and shall be published in the Federal Register.

Entered this 30th day of September, 2002.
Michael J. Garcia,
Assistant Secretary for Export Enforcement.

[FR Doc. 02-25221 Filed 10-3-02; 8:45 am]

BILLING CODE 3510-DS-M